ENVIRONMENTAL PROTECTION AGENCY

[ER-FRL-6669-6]

Environmental Impact Statements; Notice of Availability

Responsible Agency: Office of Federal Activities, General Information (202) 564-7167 or http://www.epa.gov/compliance/nepa/. Weekly receipt of Environmental Impact Statements Filed November 14, 2005 Through November 18, 2005 Pursuant to 40 CFR 1506.9.

EIS No. 20050486, Final EIS, AFS, OR, Timberline Express Project, To Improve the Winter Recreational Opportunities, Implementation, Zigzag Ranger District, Mt. Hood National Forest, Clackamas County, OR, Wait Period Ends: 12/27/2005, Contact: Mike Redmond 503-668-1776.

EIS No. 20050487, Draft EIS, NRS, UT, Coal Creek Flood Control and Parkway Project, Proposed Channel Improvements, Two Irrigation Division Structures on Coal Creek (the Main Street Diversion and the Woodbury Diversion), Cedar City, Iron County, UT, Comment Period Ends: 01/09/2006, Contact: Marine Wilson 801-524-4591.

Programmatic

EIS No. 20050488, Final EIS, EPA, 00, Mountaintop Mining and Valley Fills Program Guidance, Policies or Regulations to Minimize Adverse Environmental Effects to Waters of the U.S. and Fish and Wildlife Resources, Implementation, Appalachia, Appalachian Study Area, WV, KY, TN and VA, Wait Period Ends: 12/27/2005, Contact: John Forren (EPA) 215-814-2705; Katherine Trott (COE) 202-761-5542; Mike Robinson (OSM) 412-937-2882, Cindy Tibbott (SFW) 814-234-4090; Russell Hunter, (WV Dept. of Environmental Protection) 304-926-0499 215-814-2705

This document is available on the Internet at: http://www.epa.gov/region3/mtntop/index.htm.

EIS No. 20050489, Final EIS, IBR, 00, Operation of Flaming Gorge Dam Colorado River Storage Project, Protection and Assistance in the Recovery of Populations and Designated Critical Habitat of Four Endangered Fishes: Bony Tail, Colorado Pikeminnow, Humpback Chub, and Razorback Sucker, Green River, UT and WY , Wait Period Ends: 12/27/2005, Contact: Peter Crookston 801-379-1152.

EIS No. 20050490, Draft EIS, COE, CA, San Juan Creek and Western San Mateo Creek Watershed Special Area Management Plan (SAMP), Proposed Watershed-Based SAMP to Balance Aquatic Resource Protection and Reasonable Economic Development, Southern Portion of Orange County, CA, Comment Period Ends: 01/16/2006, Contact: Jae Chung 213-452-3292.

EIS No. 20050491, Final EIS, AFS, 00, White Mountain National Forest Land and Resource Management Plan, Forest Plan Revision, Implementation, Carroll, Coos, Grafton Counties, NH and Oxford County, ME, Wait Period Ends: 12/27/2005, Contact: Barbara Levesque 603-528-8743.

EIS No. 20050492, Final EIS, AFS, SD, Bugtown Gulch Mountain Pine Beetle and Fuels Projects, To Implement Multiple Resource Management Actions, Black Hills National Forest, Hell Canyon Ranger District, Custer County, SD, Wait Period Ends: 12/27/2005, Contact: Patricia Hudson 605-673-4853.

EIS No. 20050493, Draft EIS, NPS, AR, Pea Ridge National Military Park General Management Plan, Implementation, AR, Comment Period Ends: 01/09/2006, Contact: John Scott 479-451-8122.

EIS No. 20050494, Final EIS, NOA, AK, Amendments to the Alaska Coastal Management Program, Approval, Implementation and Funding, U.S. Army COE 404 Permit, AK , Wait Period Ends: 12/27/2005, Contact: Helen C.P. Bass 301-713-3155, ext 175.

EIS No. 20050495, Final EIS, SFW, NC, Roanake River National Wildlife Refuge, Comprehensive Conservation Plan, To Determine and Evaluate a Range of Reasonable Management Alternative, Bertie County, NC, Wait Period Ends: 12/27/2005, Contact: Bob Glennon 252-482-2364.

EIS No. 20050496, Final EIS, DOE, ME, Bangor Hydro-Electric Northeast Reliability Interconnect, Construct, Connect, Operate and Maintain an Electric Transmission Line Amend Presidential Permit (PP-89), DOE/EIS-0372, Hancock, Penobscot and Washington Counties, ME, Wait Period Ends: 12/27/2005, Contact: Dr. Jerry Pell 202-586-3362.

Amended Notices

EIS No. 20040527, Draft EIS, AFS, IN, German Ridge Restoration Project, To Restore Native Hardwood Communities, Implementation, Hoosier National Forest, Tell City Ranger District, Perry County, IN, Comment Period Ends: 01/09/2006, Contact: Ron Ellis 812-275-5987.

Revision of FR Notice Published on 11/19/2004: CEQ Comment Period Ending 01/03/2005 has been Reestablished to 01/09/2006. Per Request of the Preparing Agency by Letter Dated 11/10/05.

EIS No. 20050410, Draft EIS, COE, FL, Central and Southern Florida Project, Comprehensive Everglades Restoration Plan, Implementation, Everglades Agricultural Area Storage Reservoirs, Palm Beach County, FL, Comment Period Ends: 01/09/2006, Contact: Janet Cushing 904-232-2259. Revision of FR Notice Published 10/14/2005: Comment Period Extended from 11/21/2005 to 01/09/2006.

Withdrawn

EIS No. 20050455, Final EIS, AFS, IN, German Ridge Restoration Project, To Restore Native Hardwood Communities, Implementation, Hoosier National Forest, Tell City Ranger District, Perry County, IN, Wait Period Ends: 12/05/2005, Contact: Ron Ellis 812-275-5987.

Revision of FR Notice Published on 11/04/2005: Officially Withdrawn by the Preparing Agency by Letter Dated 11/10/2005.

Dated: November 21, 2005.
Ken Mittleholtz,
Environmental Protection Specialist, Office of Federal Activities.

[FR Doc. 05-23273 Filed 11-23-05; 8:45 am]

BILLING CODE 6560-50-P